NATIONAL CREDIT UNION ADMINISTRATION

Agency Information Collection Activities: Proposed Collection; Comment Request; NCUA Personnel Security Processing Form

AGENCY: National Credit Union Administration (NCUA).

ACTION: Notice and request for comment.

SUMMARY: The National Credit Union Administration (NCUA), as part of a continuing effort to reduce paperwork and respondent burden, invites the general public and other Federal agencies to comment on a new information collection, as required by the Paperwork Reduction Act of 1995.

DATES: Written comments should be received on or before August 19, 2019 to be assured consideration.

ADDRESSES: Interested persons are invited to submit written comments on the information collections to the Mackie Malaka, National Credit Union Administration, 1775 Duke Street, Suite 6058, Alexandria, Virginia 22314, or email at PRAComments@NCUA.gov.

FOR FURTHER INFORMATION CONTACT: Requests for additional information should be directed to Mackie Malaka at the address above or telephone (703) 548-2704.

SUPPLEMENTARY INFORMATION: OMB Number: 3133-0201.

Title: NCUA Personnel Security Processing Forms.

Forms: NCUA 1092, 1093, and 1093C.

Abstract: Title 5, Code of Federal Regulations, Part 731 (suitability), Executive Order (E.O.) 13764 (contractor fitness), E.O. 12968/SEAD 4 (classified access), and Homeland Security Directive-12 (badging) requires all federal and contractor employees to undergo a background investigation when seeking employment with an agency. The NCUA Personnel Security Processing Forms (Personnel Security Data Form-Contractor, Personnel Security Data Form-Employee and the Authorization for Release of Credit Information) are used to collect information necessary for applying the government-established suitability/fitness criteria on employees before they can begin employment with or perform contractual services for the NCUA. It may be also required should a contract employee be moved to a new contract work. The background investigation process culminates in an adjudicative determination on whether or not these employees are fit to perform services on behalf of the agency.

Type of Review: New collection.

Affected Public: Individuals or Households.

Estimated No. of Respondents: 500.

Estimated Annual Frequency: 1.5.

Estimated Annual Number of Responses: 1,200.

Estimated Burden Hours per Response: 0.16.

Estimated Total Annual Burden Hours: 200.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on June 13, 2019.
Dated: June 13, 2019.
Mackie I. Malaka,
NCUA PRA Clearance Officer.

[FR Doc. 2019-12821 Filed 6-17-19; 8:45 am]

BILLING CODE 7535-01-P